DEPARTMENT OF ENERGY

Federal Energy Regulatory Commission

Combined Notice of Filings #1

August 15, 2005.

Take notice that the Commission received the following electric rate filings:

Docket Numbers: ER01-1758-003.

Applicants: Altorfer, Inc.

Description: Altorfer Inc. submits revisions to its market-based FERC Electric Rate Schedule No. 1 to amend the reporting requirements for changes in status adopted in Order No. 652.

Filed Date: 08/09/2005.

Accession Number: 20050811-0005.

Comment Date: 5 p.m. eastern time on Tuesday, August 30, 2005.

Docket Numbers: ER04-691-059; EL04-104-056.

Applicants: Midwest Independent Transmission System Operator, Inc.

Description: Midwest Independent Transmission System Operator, Inc. submits Second Substitute First Revised Sheet 766 to FERC Electric Tariff, Third Revised Volume No. 1 pursuant to section 205 of the Federal Power Act.

Filed Date: 08/09/2005.

Accession Number: 20050811-0091.

Comment Date: 5 p.m. eastern time on Tuesday, August 30, 2005.

Docket Numbers: ER05-6-034.

Applicants: Midwest Independent Transmission System Operator, Inc.

Description: Midwest Independent Transmission System Operator, Inc. and the Midwest ISO Transmission Owners submit a joint filing to revise the sub-zone charges set forth on Schedule 22 of the Midwest ISO Open Access Transmission and Energy Markets Tariff.

Filed Date: 08/08/2005 as amended 8/11/2005.

Accession Number: 20050811-0097.

Comment Date: 5 p.m. eastern time on Monday, August 26, 2005.

Docket Numbers: ER05-1105-001.

Applicants: LP and T Energy, LLC.

Description: LP &T Energy, LLC submits an amended application for order accepting initial market base rate tariff & granting certain waivers & blanket approvals.

Filed Date: 08/08/2005.

Accession Number: 20050811-0092.

Comment Date: 5 p.m. eastern time on Monday, August 29, 2005.

Docket Numbers: ER05-1124-001.

Applicants: Midwest Independent Transmission System Operator, Inc.

Description: Midwest Independent Transmission System Operator, Inc. submits Substitute Second Revised Sheet 1212 to FERC Electric Tariff, Third Revised Volume No. 1 in compliance with the Commission's order issued 8/3/05 in Docket No. ER05-1124-000.

Filed Date: 08/10/2005.

Accession Number: 20050811-0110.

Comment Date: 5 p.m. eastern time on Wednesday, August 31, 2005.

Docket Numbers: ER05-1142-001.

Applicants: Kincaid Generation, LLC.

Description: Kincaid Generation, LLC submits an amendment to its two June 24, 2005 filings.

Filed Date: 08/09/2005.

Accession Number: 20050811-0090.

Comment Date: 5 p.m. eastern time on Tuesday, August 30, 2005.

Docket Numbers: ER05-1228-001.

Applicants: Sea Breeze Juan de Fuca Cable, LP.

Description: Sea Breeze Pacific Juan de Fuca Cable, LP submits an application for authorization to sell transmission rights at negotiated rates.

Filed Date: 07/20/2005.

Accession Number: 20050725-0043.

Comment Date: 5 p.m. eastern time on Wednesday, August 22, 2005.

Docket Numbers: ER05-1275-001.

Applicants: Ramco Generating One, Inc.

Description: Ramco Generating One, Inc. submits an amendment to its 7/27/05 notice of cancellation of its FERC Electric Tariff, Original Volume No. 1.

Filed Date: 08/08/2005.

Accession Number: 20050811-0098.

Comment Date: 5 p.m. eastern time on Monday, August 29, 2005.

Docket Numbers: ER05-1299-000.

Applicants: Wabash Valley Power Association, Inc.

Description: Wabash Valley Power Association, Inc. submits First Revised Sheet 122 to FERC Electric Tariff, Original Volume No. 1, and an addendum to agreement for electric service with Carroll County REMC pursuant to FERC 12/7/04 Order.

Filed Date: 08/08/2005.

Accession Number: 20050811-0102.

Comment Date: 5 p.m. eastern time on Monday, August 29, 2005.

Docket Numbers: ER05-1300-000; ER04-833-000 and 001.

Applicants: Southwest Power Pool, Inc.

Description: Southwest Power Pool, Inc. submits a status report re Attachment AA of its open access transmission tariff in compliance with FERC's 10/5/04 Order.

Filed Date: 08/05/2005.

Accession Number: 20050811-0099.

Comment Date: 5 p.m. eastern time on Friday, August 26, 2005.

Docket Numbers: ER05-1301-000.

Applicants: Cogentrix Energy Power Marketing, Inc.

Description: Cogentrix Energy Power Marketing, Inc. submits a notice of cancellation of its market based rate electric tariff, Rate Schedule 2, effective 8/8/05.

Filed Date: 08/08/2005.

Accession Number: 20050811-0104.

Comment Date: 5 p.m. eastern time on Monday, August 29, 2005.

Docket Numbers: ER05-1302-000.

Applicants: PJM Interconnection L.L.C.

Description: PJM Interconnection, LLC submits an executed Interconnection Service Agreement with PPL Susquehanna, LLC et al. pursuant to section 205 of the Federal Power Act, 16 U.S.C. 824d, part 35 of the Commission's regulations, 18 CFR part 35, and Part IV of the PJM Interconnection L.L.C.

Filed Date: 08/08/2005.

Accession Number: 20050811-0107.

Comment Date: 5 p.m. eastern time on Monday, August 29, 2005.

Docket Numbers: ER05-1303-000.

Applicants: Arizona Public Service Company.

Description: Arizona Public Service Company submits a notice of cancellation of two rate schedules, FERC Electric Rate Schedule 246 and 248.

Filed Date: 08/08/2005.

Accession Number: 20050811-0108.

Comment Date: 5 p.m. eastern time on Monday, August 29, 2005.

Docket Numbers: ER05-1304-000.

Applicants: Mystic Development, LLC.

Description: Mystic Development, LLC submits its proposed FERC Electric Tariff, Original Volume No. 2, proposed RMR agreement and supporting cost data specifying Mystic Development's revenue requirement for providing cost-based reliability services pursuant to a cost-of-service agreement with ISO New England Inc., in accordance with ISO-NE Market Rule No. 1, Appendix A.

Filed Date: 08/09/2005.

Accession Number: 20050811-0105.

Comment Date: 5 p.m. eastern time on Tuesday, August 30, 2005.

Docket Numbers: ER05-1305-000.

Applicants: Mystic I, LLC.

Description: Mystic I, LLC submits its proposed FERC Electric Tariff, Original Volume No. 2 and supporting cost data specifying its revenue requirement for providing cost-based reliability services pursuant to a cost-of-service agreement with ISO New England, Inc. in accordance with ISO-NE Market Rule 1, Appendix A.

Filed Date: 08/09/2005.

Accession Number: 20050811-0106.

Comment Date: 5 p.m. eastern time on Tuesday, August 30, 2005.

Docket Numbers: ER05-1307-000.

Applicants: North American Electric Reliability Council.

Description: North American Electric Reliability Council submits revisions to the transmission loading relief procedures adopted for use in the Eastern Interconnections.

Filed Date: 08/08/2005.

Accession Number: 20050811-0100.

Comment Date: 5 p.m. eastern time on Monday, August 29, 2005.

Docket Numbers: ER05-1308-000.

Applicants: New England Power Company.

Description: New England Power Company submits an amended interconnection & support agreement between New England Power Company, Massachusetts Electric Company and the Town of Marblehead Municipal Light Department.

Filed Date: 08/09/2005.

Accession Number: 20050811-0101.

Comment Date: 5 p.m. eastern time on Tuesday, August 30, 2005.

Docket Numbers: ER05-1309-000.

Applicants: American Electric Power System.

Description: American Electric Power Service Corporation on behalf of AEP Texas North Company submits a fully executed interconnection agreement between AEPTNC and FPL Energy Horse Hollow Wind, L.P., dated of 8/2/05.

Filed Date: 08/10/2005.

Accession Number: 20050812-0140.

Comment Date: 5 p.m. eastern time on Wednesday, August 31, 2005.

Docket Numbers: ER97-3954-020; EL05-132-000.

Applicants: Unicom Power Marketing, Inc.

Description: Unicom Power Marketing, Inc. submits an amendment to its market-based rate tariffs by which Unicom undertakes to observe the Market Behavior Rules and incorporates a statement of policy and code of conduct with respect to the relationship between Unicom and Public Service Electric and Gas, pursuant to a Commission Order issued 7/5/05 in Docket No. EL05-132-000.

Filed Date: 08/05/2005.

Accession Number: 20050811-0094.

Comment Date: 5 p.m. eastern time on Friday, August 26, 2005.

Docket Numbers: ER98-1734-010; EL05-132-000.

Applicants: Exelon Corporation.

Description: Commonwealth Edison Company submits an amendment to its market-based rate tariff to observe the Market Behavior Rules and incorporate a Statement of Policy and Code of Conduct with respect to the relationship between ComEd and Public Service Electric and Gas, pursuant to a Commission Order issued in Docket No. EL05-132-000.

Filed Date: 08/05/2005.

Accession Number: 20050811-0095.

Comment Date: 5 p.m. eastern time on Friday, August 26, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlinSupport@ferc.gov. or call (866) 208-3676 (toll free). For TTY, call (202) 502-8659.

Magalie R. Salas,
Secretary.

[FR Doc. E5-4563 Filed 8-22-05; 8:45 a.m.]

BILLING CODE 6717-01-P